DEPARTMENT OF HEALTH AND HUMAN SERVICES

Health Resources And Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on January 1, 2007, through March 31, 2007.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

List of Petitions

1. Stacey Heinzelman, Milwaukee, Wisconsin, Court of Federal Claims Number 07-0001V.

2. Wilma Fagio, Monroe, North Carolina, Court of Federal Claims Number 07-0005V.

3. Norma and Douglas Rosenberg on behalf of Kevin Rosenberg, Lake Success, New York, Court of Federal Claims Number 07-0009V.

4. Annie Bell, Greensboro, North Carolina, Court of Federal Claims Number 07-0011V.

5. Anthony Nevels, Aurora, Illinois, Court of Federal Claims Number 07-0019V.

6. Louise Schmidt, Cherry Hill, New Jersey, Court of Federal Claims Number 07-0020V.

7. Shemeka Ramsey on behalf of Demarius Jamar Ramsey, Deceased, Columbia, South Carolina, Court of Federal Claims Number 07-0021V.

8. Sybil and Brent Morgan on behalf of Spencer Morgan, Bedford, Texas, Court of Federal Claims Number 07-0022V.

9. Jennifer and Eric Claasen on behalf of Ryan Claasen, Boise, Idaho, Court of Federal Claims Number 07-0023V.

10. Beverly Chaney on behalf of Payne Chaney, Boston, Massachusetts, Court of Federal Claims Number 07-0024V.

11. Shawn and Scott Valentine on behalf of Christian Valentine, Independence, Missouri, Court of Federal Claims Number 07-0025V.

12. Andrew Laurie, Tucson, Arizona, Court of Federal Claims Number 07-0026V.

13. Jean Lydon, Waukon, Iowa, Court of Federal Claims Number 07-0030V.

14. Chelsie Kramer, Atwood, Kansas, Court of Federal Claims Number 07-0033V.

15. Kendra Solko, Atwood, Kansas, Court of Federal Claims Number 07-0034V.

16. Beverly and Keith Langland on behalf of Mackenzie Grace Langland, Ponte Vedra Beach, Florida, Court of Federal Claims Number 07-0036V.

17. William Rodriguez, Tampa, Florida, Court of Federal Claims Number 07-0038V.

18. Samantha and James Mannion on behalf of James Mannion, Great Neck, New York, Court of Federal Claims Number 07-0039V.

19. Amy and Stewart McIntyre on behalf of Craigmiles McIntyre, Hannibal, Missouri, Court of Federal Claims Number 07-0040V.

20. Laurel Austin-Lemon on behalf of Jeremy Austin, Shawnee Mission, Kansas, Court of Federal Claims Number 07-0041V.

21. Josette and Nicholas Johnson on behalf of Jordan Johnson, Great Neck, New York, Court of Federal Claims Number 07-0042V.

22. Crystal and Kevin Worley on behalf of Sasha Worley, Great Neck, New York, Court of Federal Claims Number 07-0043V.

23. Wendy Diamond on behalf of Dalton Diamond, Great Neck, New York, Court of Federal Claims Number 07-0044V.

24. Cara and Korey King on behalf of Alex King, Great Neck, New York, Court of Federal Claims Number 07-0045V.

25. Diane and Andrew Davis on behalf of Jessica Davis, Great Neck, New York, Court of Federal Claims Number 07-0046V.

26. Lourdes Reantillo and Alfred Belmont on behalf of Christopher Belmonte, Great Neck, New York, Court of Federal Claims Number 07-0048V.

27. Diane and Andrew Davis on behalf of Luke Davis, Great Neck, New York, Court of Federal Claims Number 07-0049V.

28. Pamela and Michael Szal on behalf of Andrea Szal, Great Neck, New York, Court of Federal Claims Number 07-0050V.

29. Stacie and Kevin Babula on behalf of Brielle Babula, Great Neck, New York, Court of Federal Claims Number 07-0051V.

30. Kathy Meeks Sharp and Greg Sharp on behalf of Raigan Mae Sharp, Jacksonville Beach, Florida, Court of Federal Claims Number 07-0052V.

31. Suzanne and Stephen Sykes on behalf of Brandon Sykes, Cape May Courthouse, New Jersey, Court of Federal Claims Number 07-0053V.

32. Kavitha Raghunathan and Balaji Bashyam on behalf of Hridhay Bashyam, Foster City, California, Court of Federal Claims Number 07-0057V.

33. Elizabeth and Adam Sucher on behalf of Evelyn Sucher, Boston, Massachusetts, Court of Federal Claims Number 07-0058V.

34. Lilia and Jed Snyder on behalf of Nicholas Snyder, Las Vegas, Nevada, Court of Federal Claims Number 07-0059V.

35. Frank Harris on behalf of Jordan Harris, Boston, Massachusetts, Court of Federal Claims Number 07-0060V.

36. Bonnie Dauterman on behalf of John Thomas Dauterman, Winchester, Oregon, Court of Federal Claims Number 07-0061V.

37. Danell and Robert Drew Rice on behalf of Hayden Charles Rice, New Orleans, Louisiana, Court of Federal Claims Number 07-0063V.

38. Doug Kuhl, St. Louis, Missouri, Court of Federal Claims Number 07-0064V.

39. Stacey Ronzetti and Mark St. Amour on behalf of Zachary Ethan Ronzetti St. Amour, Alpharetta, Georgia, Court of Federal Claims Number 07-0066V.

40. Kristen and Michael Jackson on behalf of Cameron Jackson, Somers Point, New Jersey, Court of Federal Claims Number 07-0068V.

41. Pamela and Gabriel Karathomas on behalf of Stephen Karathomas, Rexford, New York, Court of Federal Claims Number 07-0069V.

42. Paula and Adam Ramirez on behalf of Simone Ramirez, La Palma, California, Court of Federal Claims Number 07-0070V.

43. Julie and Christopher Neumann on behalf of Maximilian Neumann, Granada Hills, California, Court of Federal Claims Number 07-0071V.

44. Stephany Dixon, Louisville, Kentucky, Court of Federal Claims Number 07-0072V.

45. Rosiette Jules and Geffrard Charles on behalf of Kelsey Charles, Fort Lauderdale, Florida, Court of Federal Claims Number 07-0075V.

46. Latrisha Rumensky, Salem, Virginia, Court of Federal Claims Number 07-0077V.

47. Elaine and Ross Kronenthal on behalf of Steven Kronenthal, Somers Point, New Jersey, Court of Federal Claims Number 07-0079V.

48. Shannon Celeste Huffman on behalf of Austin Taylor Huffman, Harrisonburg, Virginia, Court of Federal Claims Number 07-0081V.

49. Leann Campbell on behalf of David Campbell, Indio, California, Court of Federal Claims Number 07-0083V.

50. Laura Foster on behalf of Dorrie Foster, Phoenix, Arizona, Court of Federal Claims Number 07-0086V.

51. Crystal and Nicholas Cianci on behalf of William Cianci, Griswold, Connecticut, Court of Federal Claims Number 07-0087V.

52. Allene Mikolyski on behalf of Joy Mikolyski, North Hollywood, California, Court of Federal Claims Number 07-0088V.

53. Kelly and Andrew Reed-Brozyna on behalf of Ashley Brozyna, Portland, Oregon, Court of Federal Claims Number 07-0089V.

54. Furman Edwards, San Diego, California, Court of Federal Claims Number 07-0091V.

55. Talta Kern, Des Moines, Iowa. Court of Federal Claims Number 07-0092V.

56. Alice Wachol on behalf of Nicholas Wachol, Bloomfield, Michigan, Court of Federal Claims Number 07-0093V.

57. Sonia Kazangian on behalf of Andrew Kazangian, Glendale, Arizona, Court of Federal Claims Number 07-0094V.

58. Mandy Ramos on behalf of Eddy Ramos, Naples, Florida, Court of Federal Claims Number 07-0096V.

59. Mary and Robert Goldsberry on behalf of Evelyn Goldsberry, Salt Lake City, Utah, Court of Federal Claims Number 07-0098V.

60. Anita and Kenny Davis on behalf of Ethan Davis, New Albany, Mississippi, Court of Federal Claims Number 07-0101V.

61. Dawn and Housam Moursi on behalf of Jacob Moursi, Varico, Florida, Court of Federal Claims Number 07-0102V.

62. Brenda Nosek, Prescott, Arizona, Court of Federal Claims Number 07-0103V.

63. Patricia and Alex Gatsacos on behalf of Constantine Gatsacos, Chicago, Illinois, Court of Federal Claims Number 07-0105V.

64. Tracy Cook, La Grande, Oregon, Court of Federal Claims Number 07-0106V.

65. Irene Prempeh on behalf of Duke Darkwah, Newark, New Jersey, Court of Federal Claims Number 07-0108V.

66. Kelly Butland on behalf of Lenzie Butland, Montgomery, Alabama, Court of Federal Claims Number 07-0111V.

67. Nur and John David Duncan on behalf of Baris John Duncan, Lake Success, New York, Court of Federal Claims Number 07-0117V.

68. Carrie Elsass on behalf of Jordan Elsass, Conway, Arkansas, Court of Federal Claims Number 07-0119V.

69. Kevin Orlando, Sarasota, Florida, Court of Federal Claims Number 07-0121V.

70. Louis Sampt, Riverview, Michigan, Court of Federal Claims Number 07-0122V.

71. Nadia and Ronald Jacops on behalf of Clint Carson Jacops, Youngstown, Ohio, Court of Federal Claims Number 07-0129V.

72. Jerome Anhalt, Munster, Indiana, Court of Federal Claims Number 07-0131V.

73. Cheryl Matthews on behalf of Brendan Conkey, Dearborn, Michigan, Court of Federal Claims Number 07-0132V.

74. Linda Provencher on behalf of Dylan Provencher, Van Nuys, California, Court of Federal Claims Number 07-0133V.

75. Steven Zwick, Laguna Hills, California, Court of Federal Claims Number 07-0135V.

76. Gerard Abate, Williamsburg, Virginia, Court of Federal Claims Number 07-0136V.

77. Peter Broekelschen, M.D. on behalf of Peter Broekelschen, Newport Beach, California, Court of Federal Claims Number 07-0137V.

78. Jennifer Johnson on behalf of Alexander Johnson, Deceased, Orlando, Florida, Court of Federal Claims Number 07-0138V.

79. Debra and Jeffrey Mason on behalf of Justin Mason, Waldorf, Maryland, Court of Federal Claims Number 07-0152V.

80. Barbara Turner Roderick, Redwood City, California, Court of Federal Claims Number 07-0158V.

81. Gail Katz, West Covina, California, Court of Federal Claims Number 07-0159V.

82. Patricia Boyer on behalf of Richard Carl Swonger, Los Angeles, California, Court of Federal Claims Number 07-0161V.

83. Lynne Sanchez on behalf of David Sanchez, Minneapolis, Minnesota, Court of Federal Claims Number 07-0168V.

84. Patricia Walker on behalf of Robert Walker, Temecula, California, Court of Federal Claims Number 07-0169V.

85. Scott Hammitt on behalf of Rachel Hammitt, Willoughby Hills, Ohio, Court of Federal Claims Number 07-0170V.

86. Jose Morel on behalf of Omar Morel, Washington, DC, Court of Federal Claims Number 07-0171V.

87. Kimberly Wood, Westmoreland, Pennsylvania, Court of Federal Claims Number 07-0172V.

88. George Daily, Northvale, New Jersey, Court of Federal Claims Number 07-0173V.

89. Megan Vaughan on behalf of Aurora Leigh Husk, Middlebury, Vermont, Court of Federal Claims Number 07-0175V.

90. Cheryl and Greg Berry on behalf of William Joseph Berry, Arlington, Texas, Court of Federal Claims Number 07-0177V.

91. Melissa and Cesar Rodriguez on behalf of Noah Rodriguez, Temecula, California, Court of Federal Claims Number 07-0178V.

92. Carolyn Werley on behalf of Logan Storm, Temecula, California Court of Federal Claims No: 07-0179V.

93. Debra and Jeffrey Mason on behalf of Brian Mason, Waldorf, Maryland, Court of Federal Claims Number 07-0180V.

94. Amie Timonere on behalf of Raechel Morrison, Ashtabula, Ohio, Court of Federal Claims Number 07-0182V.

95. Janice Peterson on behalf of Brian Peterson, Minneapolis, Minnesota, Court of Federal Claims Number 07-0185V.

96. Elizabeth Davis, Dothan, Alabama, Court of Federal Claims Number 07-0193V.

97. George Roland , Benton, Tennessee, Court of Federal Claims Number 07-0198V.

98. Rhonda Wood on behalf of Breckyn Wood, Zebulon, North Carolina, Court of Federal Claims Number 07-0199V.

99. Maxine A. Gleason, Gilbertville, Iowa, Court of Federal Claims Number 07-0202V.

100. Peter Anthony Reale, Mount Pleasant, Michigan, Court of Federal Claims Number 07-0203V

101. Nadia and Ronald Jacops on behalf of Wyatt Evan Jacops, Youngstown, Ohio, Court of Federal Claims Number 07-0207V.

Dated: July 30, 2007.
Elizabeth M. Duke,
Administrator.

[FR Doc. E7-15349 Filed 8-6-07; 8:45 am]

BILLING CODE 4165-15-P